Title 3—

The President

Proclamation 8346 of February 27, 2009

American Red Cross Month, 2009

By the President of the United States of America

A Proclamation

Sixty-two years after its founding, the Red Cross was instrumental in what President Franklin D. Roosevelt called the “greatest single crusade of mercy in all of history.” In 1943, at the height of World War II, President Roosevelt called on the American people to support the troops by supporting the Red Cross, which provided food, blood, and supplies to American troops, allies, and civilians across the world. President Roosevelt asked Americans to donate funds to the Red Cross, setting a goal of $125 million for 6 weeks of fundraising. The American people responded with characteristic generosity, opening their hearts and wallets. The Red Cross met this goal in less than 6 weeks. During that season of generosity and unity, President Roosevelt proclaimed March 1943 as the first Red Cross Month.

The Red Cross has continued to serve those suffering from large- and small-scale disasters. The organization is best known for its work helping communities deal with major disasters such as hurricanes, floods, and wildfires. These large-scale disasters represent a major part of the work of the American Red Cross. Just as important are the tens of thousands of small-scale disasters that occur every day in communities nationwide, and the volunteers who respond to them. These efforts include supporting our military and their families, collecting and distributing blood, helping the needy, delivering health and safety education, and providing aid abroad.

In every response, volunteers are the key to Red Cross efforts. Volunteers represent 96 percent of the Red Cross workforce. Without their giving spirit, disaster relief operations would fall short, blood donations would fail, and the mission of the Red Cross would go unfulfilled. Whether helping military families stay connected with service members around the world, teaching CPR and first aid, or supporting other members of the International Red Cross and Red Crescent Movement, volunteers are critical to the success of each and every Red Cross endeavor. These individuals epitomize the generosity and community spirit of the American people.

NOW, THEREFORE, I, BARACK OBAMA, President of the United States of America and Honorary Chairman of the American Red Cross, by virtue of the authority vested in me by the Constitution and laws of the United States do hereby proclaim March 2009 as American Red Cross Month. I encourage all Americans to support this organization’s noble humanitarian mission.

IN WITNESS WHEREOF, I have hereunto set my hand this twenty-seventh day of February, in the year of our Lord two thousand nine, and of the Independence of the United States of America the two hundred and thirty-third.

[FR Doc. E9-4818

Filed 3-4-09; 8:45 am]

Billing code 3195-W9-P